DEPARTMENT OF COMMERCE

National Oceanic and Atmospheric Administration

[I.D. 083006A]

Endangered Species; File No. 1580

AGENCY: National Marine Fisheries Service (NMFS), National Oceanic and Atmospheric Administration (NOAA), Commerce.

ACTION: Notice; receipt of application.

SUMMARY: Notice is hereby given that Dynergy Northeast Generation, Inc. (Dynergy), 992-994 River Road, Newburgh, NY 12550, has applied in due form for a permit to take shortnose sturgeon (Acipenser brevirostrum) for purposes of scientific research.

DATES: Written, telefaxed, or e-mail comments must be received on or before October 6, 2006.

ADDRESSES: The application and related documents are available for review upon written request or by appointment in the following office(s):

Permits, Conservation and Education Division, Office of Protected Resources, NMFS, 1315 East-West Highway, Room 13705, Silver Spring, MD 20910; phone (301) 713-2289; fax (301) 427-2521; and

Northeast Region, NMFS, One Blackburn Drive, Gloucester, MA 01930-2298; phone (978) 281-9300; fax (978) 281-9394.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1580.

FOR FURTHER INFORMATION CONTACT: Malcolm Mohead or Shane Guan. (301) 713-2289.

SUPPLEMENTARY INFORMATION: The subject permit is requested under the authority of the Endangered Species Act of 1973, as amended (ESA; 16 U.S.C. 1531 et seq.) and the regulations governing the taking, importing, and exporting of endangered and threatened species (50 CFR 222-226).

Dynergy seeks a two (2) year scientific research permit on shortnose sturgeon in its efforts to study the abundance of all of sampled species in the Hudson River estuary from Battery Park (Manhattan) to River Mile 152. Based on previous permitted sampling efforts, Dynergy requests to lethally take up to 40 shortnose sturgeon larvae and to capture, handle, collect, measure, externally tag and release up to 82 juvenile and adult sturgeon obtained by various sampling methods. Dynergy sampling programs will include a Longitudinal River Ichthyoplankton Survey, a Beach Seine Survey, a Fall Juvenile Survey and an Adult Striped Bass Mark/Recapture Survey. Gear associated with the plankton survey are a 1.0-m² epibenthic sled, and a 1.0-m² Tucker Trawl to be towed by boat against the prevailing current for 5 minutes intervals on a weekly or bi-weekly basis (depending on the season) beginning March 6 and ending on December 1 of each year of the permit. An average of 133 sample trawls will be done per week. The Beach Seine Survey will utilize a 30.5-m total length beach seine with bag deployed by boat in 450 m² semi-circular sweeps to collect YOY fish in the shore zone. The sampling period is bi-weekly from June 12 to October 16 each year of the permit with an average of 100 samples per week. Gear associated with the Fall Juvenile Survey is a 3-m Beam Trawl and Tucker Trawl to be towed by boat on alternating weeks in three separate sampling periods from July 1 to December 1 in each year of the permit with an average of 180 trawls per week. The Adult Striped Bass Mark/Recapture Survey will utilize a 9-m otter trawl with tow duration of typically 10 minutes and with approximately 500 trawls occurring between January and April and then between October and December.

Dated: August 30, 2006.
P. Michael Payne,
Chief, Permits, Conservation and Education Division, Office of Protected Resources, National Marine Fisheries Service.

[FR Doc. E6-14713 Filed 9-5-06; 8:45 am]

BILLING CODE 3510-22-S